DEPARTMENT OF THE INTERIOR

National Park Service

National Register of Historic Places; Notification of Pending Nominations

Nominations for the following properties being considered for listing in the National Register were received by the National Park Service before July 13, 2002.

Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington DC 20002; or by fax, 202-343-1836. Written or faxed comments should be submitted by August 21, 2002.

Dated: August 21, 2002
Patrick W. Andrus,
Acting Keeper of the National Register of Historic Places.

Connecticut

Fairfield County

Baldwin, Caleb, Tavern (Rochambeau's Army in Connecticut, 1780-1782 MPS), 32 Main St., Newtown, 02000869

Basset, Daniel, House (Rochambeau's Army in Connecticut, 1780-1782 MPS), 1024 Monroe Turnpike, Monroe, 02000870

Litchfield County

Sherman, David, House (Rochambeau's Army in Connecticut, 1780-1782 MPS), 63 Middle Quarter Rd., Woodbury, 02000868

New Haven County

Strauss, Adler Company Corset Factory, 78-84 Olive St., New Haven, 02000864

New London County

Avery Point Lighthouse, On Long Island Sound at 1084 Shennecossett Rd., Groton, 02000866

Gales Ferry Historic District No. 2 (Ledyard MPS), Roughly along Hurlbutt Rd., from Allyn Rd. to Military Hwy., Ledyard, 02000865

Taintor, Charles M., House (Rochambeau's Army in Connecticut, 1780-1782 MPS), 12 Buckley Hill Rd., Colchester, 02000871

Windham County

Dorrance Inn (Rochambeau's Army in Connecticut, 1780-1782 MPS), 748 Plainfield Pike, Sterling, 02000867

Georgia

Fulton County

Southern Dairies, 593 Glen Iris Dr., Atlanta, 02000872

Hall County

Gainesville Commercial Historic District, Roughly bounded by Broad St., Maple St., Academy St. and Green St., Gainesville, 02000873

Missouri

Jackson County

BMA Tower, 700 Karnes Blvd., Kanssas City, 02000886

Nevada

Washoe County

Barnard, W.E., 950 Joaquin Miller Dr., Reno, 02000874

Greystone Castle, 970 Joaquin Miller Dr., Reno, 02000875

New York

Greene County

Rowena Memorial School, NY 23A, Palenville, 02000879

Orange County

Hays, John R., House, 45 Maple St., Walden, 02000880

Mould, Moses, House, 1743 NY 17K, Montgomery, 02000876

Saratoga County

Marshall House, 136 NY 32N, Schuylerville, 02000878

Steuben County

Younglove, Timothy M., Octagon House, 8329 Pleasant Valley Rd., Urbana, 02000877

Ohio

Cuyahoga County

Ambler Heights Historic District, Roughly bounded by Martin Luther King, Jr. Blvd., Cedar Glen, N. Park, Blvd., and along Harcourt Dr., Cleveland Heights, 02000883

Euclid City Hall, 585 E. 222nd St., Euclid, 02000884

Euclid Golf Allotment, Roughly bounded by Cedar Rd., Coventry Rd., Scarborough Rd., W. St. James Pkwy, and Ardleigh Dr., Cleveland Heights, 02000887

Harrison County

Law, Henry, Farm Historic District, 87675 Reed Rd., Uhrichsville, 02000882

Miami County

Pleasant Hill United Church of Christ, 10 W. Monument St., Pleasant Hill, 02000881

Montgomery County

Bixler, George, Farm, 13213 Providence Pike, Brookville, 02000888

Pennsylvania

Adams County

Cline's Church of the United Brethren in Christ, Cline's Church Rd., 0.5 mi. S of PA 34, Menallen, 02000894

Berks County

Berkley Historic District, Section of Snyder Rd. bet PA 61 and Berkley Rd., Ontelaunee, 02000892

Franklin County

Handycraft Farmstead, 11071 Country Club Rd., Washington, 02000893

Luzerne County

St. Gabriel's Catholic Parish Complex, 122-142 S. Wyoming St., Hazleton, 02000889

Philadelphia County

Warburton House, 1929 Sansom St., Philadelphia, 02000890

Washington County

Stephenson—Campbell House, At the endof Tomahawk Claim Lne. off of Reissing Rd., Cecil, 02000891

Texas

Refugio County

Refugio County Courthouse, 808 Commerce, Refugio, 02000895

Smith County

People's National Bank Building (Tyler, Texas MPS), 102 N. College Ave., Tyler, 02000896

Short-Line Residential Historic District, (Tyler, Texas MPS), Roughly bounded by West Ln., N. Ellis, Short St., and an unnamed alley to the east, Tyler, 02000897

West Virginia

Harrison County

Bassel, Daniel, House, WV 25, S of Jct. of WV 270 and WV 25, Lost Creek, 02000898

Kanawha County

Maple Terrace Court and Walton Apartments, Maple Terrace Court, Charleston, 02000885

Mineral County

Carskadon, Thomas R., House, Carskadon Rd., Keyser, 02000900

Mingo County

Smith, Elven C., House, 210 Little Oak St., Williamson, 02000899

A request for REMOVAL has been made for the following resource:

Puerto Rico

Aguadilla County

Silva-Benejan House 15 Munoz Rivera St., Aguadilla, 87000725

[FR Doc. 02-19765 Filed 8-5-02; 8:45 am]

BILLING CODE 4310-70-P